DEPARTMENT OF AGRICULTURE

Forest Service

Umatilla National Forest, Grant County, Oregon; Farley Analysis Area Vegetation Management Project

AGENCY: Forest Service, USDA.

ACTION: Notice of intent to prepare an environment impact statement.

SUMMARY: The U.S. Department Agriculture—Forest Service proposes to conduct vegetation management activities on approximately 167,500 acres of upland forest sites in the Farley Analysis Area to restore sustainable forest conditions in the Desolation Creek watershed. The proposed action will use a range of mechanical harvest and non-harvest thinning and prescribed fire activities to alter species composition, stand structure, and fire regime condition class to re-create conditions that are consistent with the historic range of variably for forests of the Blue Mountains of northeastern Oregon, and to capture the commercial value of forest raw materials for the benefit of local economies.

The Farley Analysis Area encompasses the Desolation Creek watershed which covers 69,672 acres of diverse mountainous, mostly forested landscapes ranging in elevation from 7,765 ft at its headwaters to 2810 ft at its confluence with the North Fork John Day River near Dale, Oregon. It includes both National Forest and privately-owned lands; private lands comprise about 18 percent of the total area, mostly at lower elevations at the western end of the watershed.

Development and implementation of these actions will be conducted in accordance with the National Forest Management Act, National Environmental Policy Act, Council on Environmental Quality regulations, Clean Water Act, Clean Air Act, Endangered Species Act, and with the Umatilla National Forest Land and Resource Management Plan and scientific recommendations of the Interior Columbia Basin Ecosystem Management Project.

DATES: Comments concerning the scope of the analysis must be received by November 21, 2007. The Draft EIS is expected to be filed with the Environmental Protection Agency (EPA) and be available to the public for review by February 2008. The Final EIS is scheduled to be completed by April 2008.

ADDRESSES: Send written comments to the Responsible Official, Kevin D. Martin, Forest Supervisor, Umatilla National Forest, 2517 S.W. Hailey Avenue, Pendleton, OR 97801. Send electronic comments to: comments-pacificnorthwest-umatilla@fs.fed.us.

FOR FURTHER INFORMATION CONTACT: Michael A. Beckwith, Technical Writer-Editor, North Fork John Day Ranger District, 401 Main Street, Ukiah, OR 97880, phone (541) 427-5335. E-mail: mabeckwith@fs.fed.us.

SUPPLEMENTARY INFORMATION: Purpose and Need. Since the early 1900s, fire has been aggressively excluded from forest ecosystems throughout the Nation. From the mid to late 1900s, timber harvest practices in the interior Columbia Basin have emphasized removal primarily of mature ponderosa pine. The result has been a shift in forest conditions toward dense stands of Douglas and grand fir containing large amounts of dead and decaying wood that now are subject to insect infestations, disease, and very large wildfires, in contrast to the more open stands of fire-adapted species (such as ponderosa pine) that would be expected to occur historically.

In addition, in 1996 the Bull, Summit and Tower wildfires in and near the Farley Analysis Area involved mature lodgepole pine forests that had experienced substantial insect mortality. These fires were uncharacteristically intense and covered large area (over 130,000 acres) because, as a result of past fire suppression and timber harvest practices, the forests had become more dense (more trees per acre) and contained a larger amount of dead wood than would have existed historically. These fires resulted in greater loss of old forest structure, wildlife cover and habitat, riparian structure and vegetation, erosion and detrimental effects to soils over very large areas than would have been anticipated historically.

The Desolation Watershed Analysis (1999) found that almost 60 percent of upland-forest sites in the Farley area exhibit moderate or high departures from the characteristic species composition, structure and stand density conditions than would have existed historically. These conditions are outside the range of historic variability for forests in the Blue Mountains and are not sustainable over the long-term, with the end result likely to be very large, destructive wildfires. Therefore, the purpose and need for the Farley Vegetation Management Project is to improve the long-term sustainability of upland forests by reducing stand densities and fuel loads, restoring appropriate species composition, altering forest structure and fire regime condition class, regenerating mature lodgepole stands that currently exits, and to capture the commercial value of raw wood materials for the benefits of local economies.

Proposed Action. The Forest Service proposes to conduct mechanical harvest and non-harvest thinning, prescribed fire, fuels treatment, and reforestation activities on approximately 17,460 acres in the Farley Analysis Area in accordance with the resource management objectives and standards set forth in the Umatilla National Forest Land and Resource Management Plan (1990) and the scientific recommendations of the Interior Columbia Basin Ecosystem Management Project (1996). These activities are anticipated to yield approximately 60,000 hundred cubic feet of merchantable material. Approximately 100 miles of open and seasonally open roads will be required for the proposed action, including construction of approximately 40 miles of new system and temporary roads, and approximately 50 miles of reconstruction and maintenance of existing forest system roads. Approximately 2 miles of existing road will be closed and/or decommissioned at the conclusion of the proposed activities.

The proposed action requires amendments to the Forest Plan with respect to connectivity among stands exhibiting old forest structure, scenic values, and total area (at the specific stand, subwatershed and watershed level) allowed to be in the less than 20 year old age class. Implementation of the proposed actions could begin in late 2008.

Possible Alternatives. Alternatives will include the proposed action, no action, and additional alternatives that respond to issues generated during the scoping process. The agency will give notice of the full environmental analysis and decision-making process so interested and affected people may participate and contribute to the final decision.

Scoping. Correspondence with tribes, government agencies, organizations, and individuals who have indicated interest will be conducted and input will be solicited.

Preliminary Issues. Preliminary issues identified include the potential effects of the proposed action on long-term forest conditions and sustainability, fish and wildlife habitat, hydrology and water quality, soils and scenic values.

Comment. Public comments on this proposed action are requested to identify issues and alternatives to the proposed action and to focus the scope of the analysis. Comments received in response to this solicitation, including names and address of those who comment, will be considered part of the public record on this proposed action, and will be available for public inspection. Comments submitted anonymously will be accepted and considered; however, those who submit anonymous comments will not have standing to appeal the subsequent decisions under 36 CFR parts 215 or 217. Additionally, pursuant to 7 CFR 1.27(d), any person may request the agency to withhold a submission from the public record by showing how the Freedom of Information Act (FOIA) permits such confidentiality. Persons requesting such confidentiality should be aware that under the FOIA, confidentiality may be granted in only very limited circumstances such as to protect trade secrets. The Forest Service will inform the requester of the agency's decision regarding the request for confidentiality, and where the request is denied; the agency will return the submission and notify the requester that the comments may be resubmitted with or without name and address within a specified number of days.

Early Notice of Importance of Public Participation in Subsequent Environmental Review. A draft EIS will be filed with the Environmental Protection Agency (EPA) and made available for public review by January 2008. The EPA will publish a Notice of Availability (NOA) of the draft EIS in the Federal Register. the final EIS is scheduled to be available April 2008.

The Forest Service believes at this early stage, it is important to give reviewers notice of several court rulings related to public participation in the environmental review process. First, reviewers of draft impact statements must structure their participation in the environmental review of the proposal so that it is meaningful and alerts the agency to the reviewer's position and contentions. Vermont Yankee Nuclear Power Corp. v. NRDC, 435 U.S. 519, 553 (1978). Also, environmental objections that could be raised at the draft environmental impact stage but that are not raised until after completion of the final environmental impact statement may be waived or dismissed by the courts. City of Angoon v. Hodel, 803 f. 2d 1016, 1022 (9th Cir. 1986) and Wisconsin Heritages, Inc, v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is Craig Dixon, District Ranger, North Fork John Day Ranger District, Umatilla National Forest. The responsible official will decide where, and whether or not to salvage timber, and remove potential hazard trees. The responsible official will select the treatment alternative(s) for the Farley Vegetation Management, as well as potential mitigation and monitoring measures that may be needed. The decision will be documented in a record of decision. The decision will be subject to Forest Service Appeal Regulations (36 CFR part 215).

Dated: November 2, 2007.
Kevin Martin,
Forest Supervisor.

[FR Doc. 07-5773 Filed 11-20-07; 8:45 am]

BILLING CODE 3410-11-M